DEPARTMENT OF TRANSPORTATION

Federal Aviation Administration

14 CFR Part 39

[Docket No. FAA-2015-3982; Directorate Identifier 2015-NM-098-AD; Amendment 39-18503; AD 2016-09-05]

RIN 2120-AA64

Airworthiness Directives; The Boeing Company Airplanes

AGENCY: Federal Aviation Administration (FAA), DOT.

ACTION: Final rule.

SUMMARY: We are adopting a new airworthiness directive (AD) for certain The Boeing Company Model 717-200 airplanes. This AD was prompted by multiple reports of the vertical stabilizer leading edge showing signs of fastener distress. This AD requires a detailed inspection for any distress of the vertical stabilizer leading edge skin, and related investigative and corrective actions if necessary. This AD also requires, for certain airplanes, repetitive detailed inspections of the spar cap for any loose and missing fasteners, repetitive eddy current testing high frequency (ETHF) and radiographic testing (RT) inspections of the spar cap for any crack, and related investigative and corrective actions if necessary. We are issuing this AD to detect and correct any crack in the vertical stabilizer leading edge and front spar cap, which may result in the structure becoming unable to support limit load, and may lead to the loss of the vertical stabilizer.

DATES: This AD is effective June 8, 2016.

The Director of the Federal Register approved the incorporation by reference of a certain publication listed in this AD as of June 8, 2016.

ADDRESSES: For service information identified in this final rule, contact Boeing Commercial Airplanes, Attention: Data & Services Management, 3855 Lakewood Boulevard, MC D800-0019, Long Beach, CA 90846-0001; telephone: 206-544-5000, extension 2; fax: 206-766-5683; Internet: https://www.myboeingfleet.com. You may view this referenced service information at the FAA, Transport Airplane Directorate, 1601 Lind Avenue SW., Renton, WA. For information on the availability of this material at the FAA, call 425-227-1221. It is also available on the Internet at http://www.regulations.gov by searching for and locating Docket No. FAA-2015-3982.

Examining the AD Docket

You may examine the AD docket on the Internet at http://www.regulations.gov by searching for and locating Docket No. FAA-2015-3982; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Eric Schrieber, Aerospace Engineer, Airframe Branch, ANM-120L, FAA, Los Angeles Aircraft Certification Office (ACO), 3960 Paramount Boulevard, Lakewood, CA 90712-4137; phone: 562-627-5348; fax: 562-627-5210; email: Eric.Schrieber@faa.gov.

SUPPLEMENTARY INFORMATION:

Discussion

We issued a notice of proposed rulemaking (NPRM) to amend 14 CFR part 39 by adding an AD that would apply to certain The Boeing Company Model 717-200 airplanes. The NPRM published in the Federal Register on October 6, 2015 (80 FR 60307) (“the NPRM”). The NPRM was prompted by multiple reports of the vertical stabilizer leading edge showing signs of fastener distress. The NPRM proposed to require a detailed inspection for any distress of the vertical stabilizer leading edge skin, and related investigative and corrective actions if necessary. The NPRM also proposed to require, for certain airplanes, repetitive detailed inspections of the spar cap for any loose and missing fasteners, repetitive ETHF and RT inspections of the spar cap for any crack, and related investigative and corrective actions if necessary. We are issuing this AD to detect and correct any crack in the vertical stabilizer leading edge and front spar cap, which may result in the structure becoming unable to support limit load, and may lead to the loss of the vertical stabilizer.

Comments

We gave the public the opportunity to participate in developing this AD. The following presents the comments received on the NPRM and the FAA's response to each comment. Boeing and an anonymous commenter indicated their support for the NPRM.

Request To Add Credit for Previous Actions

Boeing requested that we add a “Credit for Previous Actions” paragraph to the proposed AD that would give credit for prior accomplishment of the initial inspection in paragraph (g) of the NPRM. Boeing stated that operator structural inspection credit has been incorporated as a precedent in previous ADs.

We agree with the commenter's request. Boeing MOM-MOM-14-0437-01B(R1), dated July 3, 2014, provides the same action and level of safety for the initial inspection specified in this AD. We have revised this AD by adding new paragraph (j) of this AD to give credit for the initial inspection in paragraph (g) of this AD, if that inspection was performed before the effective date of this AD using Boeing MOM-MOM-14-0437-01B(R1), dated July 3, 2014. We have redesignated the remaining paragraphs accordingly.

Conclusion

We reviewed the relevant data, considered the comments received, and determined that air safety and the public interest require adopting this AD with the change described previously and minor editorial changes. We have determined that these minor changes:

• Αre consistent with the intent that was proposed in the NPRM for correcting the unsafe condition; and

• Do not add any additional burden upon the public than was already proposed in the NPRM.

We also determined that these changes will not increase the economic burden on any operator or increase the scope of this AD.

Related Service Information Under 1 CFR Part 51

We reviewed Boeing Alert Service Bulletin 717-55A0012, dated June 12, 2015. The service information describes procedures for a detailed inspection for any distress of the vertical stabilizer leading edge skin, a detailed inspection for any loose and missing fasteners of the spar cap, ETHF and RT inspections of the spar cap for any crack, and related investigative and corrective actions. This service information is reasonably available because the interested parties have access to it through their normal course of business or by the means identified in the ADDRESSES section.

Costs of Compliance

We estimate that this AD affects 106 airplanes of U.S. registry.

We estimate the following costs to comply with this AD:

Estimated Costs
Action | Labor cost | Parts cost | Cost per product | Cost on U.S. operators
Inspections for distress | 11 work-hours × $85 per hour = $935 per inspection cycle | $0 | $935 per inspection cycle | $99,110 per inspection cycle.
Repetitive inspections for cracking and loose and missing fasteners | 7 work-hours × $85 per hour = $595 per inspection cycle | 0 | 595 per inspection cycle | 63,070 per inspection cycle.

We have received no definitive data that would enable us to provide cost estimates for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-09-05 The Boeing Company: Amendment 39-18503; Docket No. FAA-2015-3982; Directorate Identifier 2015-NM-098-AD.

(a) Effective Date

This AD is effective June 8, 2016.

(b) Affected ADs

None.

(c) Applicability

This AD applies to The Boeing Company Model 717-200 airplanes, certificated in any category, as specified in Boeing Alert Service Bulletin 717-55A0012, dated June 12, 2015.

(d) Subject

Air Transport Association (ATA) of America Code 55, Stabilizers.

(e) Unsafe Condition

This AD was prompted by multiple reports of the vertical stabilizer leading edge showing signs of fastener distress. We are issuing this AD to detect and correct any crack in the vertical stabilizer leading edge and front spar cap, which may result in the structure becoming unable to support limit load, and may lead to the loss of the vertical stabilizer.

(f) Compliance

Comply with this AD within the compliance times specified, unless already done.

(g) Initial Inspection

Except as required by paragraph (i)(1) of this AD, at the applicable time specified in paragraph 1.E., “Compliance,” of Boeing Alert Service Bulletin 717-55A0012, dated June 12, 2015: Do a detailed inspection for any distress of the vertical stabilizer leading edge skin and do all applicable related investigative and corrective actions, in accordance with the Accomplishment Instructions of Boeing Alert Service Bulletin 717-55A0012, dated June 12, 2015, except as required by paragraph (i)(2) of this AD. Do all applicable related investigative and corrective actions before further flight.

(h) Repetitive Inspections

For all airplanes on which no cracking was found during any related investigative action required by paragraph (g) of this AD: At the applicable time specified in paragraph 1.E., “Compliance,” of Boeing Alert Service Bulletin 717-55A0012, dated June 12, 2015, do the actions specified in paragraphs (h)(1) and (h)(2) of this AD and do all applicable related investigative and corrective actions, in accordance with the Accomplishment Instructions of Boeing Alert Service Bulletin 717-55A0012, dated June 12, 2015, except as required by paragraph (i)(2) of this AD. Do all applicable related investigative and corrective actions before further flight. Repeat the applicable inspection thereafter at the intervals specified in paragraph 1.E., “Compliance,” of Boeing Alert Service Bulletin 717-55A0012, dated June 12, 2015.

(1) Do detailed inspections for any loose and missing fasteners of the vertical stabilizer leading edge as specified in “Part 4” of Boeing Alert Service Bulletin 717-55A0012, dated June 12, 2015.

(2) Do eddy current testing high frequency (ETHF) and radiographic testing (RT) inspections for any crack of the vertical stabilizer spar cap as specified in “Part 2” of Boeing Alert Service Bulletin 717-55A0012, dated June 12, 2015; or do ETHF inspections for any crack of the vertical stabilizer spar cap as specified in “Part 3” of Boeing Alert Service Bulletin 717-55A0012, dated June 12, 2015.

(i) Exceptions to the Service Information

(1) Where Boeing Alert Service Bulletin 717-55A0012, dated June 12, 2015 specifies a compliance time “after the original issue date of this service bulletin,” this AD requires compliance within the specified compliance time after the effective date of this AD.

(2) If any crack is found during any inspection required by this AD, and Boeing Alert Service Bulletin 717-55A0012, dated June 12, 2015, specifies to contact Boeing for appropriate action: Before further flight, repair using a method approved in accordance with the procedures specified in paragraph (k) of this AD.

(j) Credit for Previous Actions

This paragraph provides credit for the initial inspection specified in paragraph (g) of this AD, if that inspection was performed before the effective date of this AD using Boeing MOM-MOM-14-0437-01B(R1), dated July 3, 2014, which is not incorporated by reference in this AD.

(k) Alternative Methods of Compliance (AMOCs)

(1) The Manager, Los Angeles Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (l) of this AD. Information may be emailed to: 9-ANM-LAACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Los Angeles ACO, to make those findings. To be approved, the repair method, modification deviation, or alteration deviation must meet the certification basis of the airplane, and the approval must specifically refer to this AD.

(l) Related Information

For more information about this AD, contact Eric Schrieber, Aerospace Engineer, Airframe Branch, ANM-120L, FAA, Los Angeles ACO, 3960 Paramount Boulevard, Lakewood, CA 90712-4137; phone: 562-627-5348; fax: 562-627-5210; email: Eric.Schrieber@faa.gov.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Service Bulletin 717-55A0012, dated June 12, 2015.

(ii) Reserved.

(3) For Boeing service information identified in this AD, contact Boeing Commercial Airplanes, Attention: Data & Services Management, 3855 Lakewood Boulevard, MC D800-0019, Long Beach, CA 90846-0001; telephone: 206-544-5000, extension 2; fax: 206-766-5683; Internet: https://www.myboeingfleet.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on April 20, 2016.
John P. Piccola, Jr.,
Acting Manager, Transport Airplane Directorate, Aircraft Certification Service.

[FR Doc. 2016-10160 Filed 5-3-16; 8:45 am]

BILLING CODE 4910-13-P